DEPARTMENT OF THE INTERIOR

Fish and Wildlife Service

Information Collection Submitted to the Office of Management and Budget (OMB) for Approval Under the Paperwork Reduction Act; Injurious Wildlife; Importation Certification for Live Fish and Fish Eggs (50 CFR 16.13)

AGENCY: Fish and Wildlife Service, Interior.

ACTION: Notice; request for comments.

SUMMARY: The U.S. Fish and Wildlife Service has submitted the collection of information listed below to OMB for approval under the provisions of the Paperwork Reduction Act. A description of the information collection requirement is included in this notice. If you wish to obtain copies of the information collection requirement, related forms, or explanatory material, contact the Service Information Collection Officer at the address listed below.

DATES: OMB has up to 60 days to approve or disapprove information collection but may respond after 30 days. Therefore, to ensure maximum consideration, you must submit comments on or before September 20, 2004.

ADDRESSES: Submit your comments on this information collection to the Desk Officer for the Department of the Interior at OMB-OIRA via facsimile or electronic mail: (202) 395-6566 (fax); or OIRA_DOCKET@omb.eop.gov (electronic mail). Please provide a copy of your comments to the Fish and Wildlife Service's Information Collection Clearance Officer via postal mail, electronic mail, or facsimile: 4401 N. Fairfax Dr., MS 222 ARLSQ, Arlington, VA 22203; Hope_Grey@fws.gov (electronic mail); or (703) 358-2269 (fax).

FOR FURTHER INFORMATION CONTACT: To request a copy of the information collection request, explanatory information, or related forms, contact Hope Grey by phone at (703) 358-2482 or by e-mail at Hope_Grey@fws.gov.

SUPPLEMENTARY INFORMATION: The Office of Management and Budget (OMB) regulations at 5 CFR 1320, which implement provisions of the Paperwork Reduction Act of 1995 (44 U.S.C. 3501 et seq.), require that interested parties and affected agencies have an opportunity to comment on information collection and record keeping activities (see CFR 1320.8(d)). The U.S. Fish and Wildlife Service (we, or the Service) has submitted a request to OMB for approval of a collection of information included in FWS Form 3-2273, Title 50 Certifying Official form; FWS Form 3-2274, U.S. Title 50 Certification form; and FWS Form 3-2275, Title 50 Importation Request form. All three of these forms were granted emergency approval under OMB control number 1018-0078, which expires on August 31, 2004. We are requesting a 3-year term of approval for these collection activities.

Federal agencies may not conduct or sponsor, and a person is not required to respond to, a collection of information unless it displays a currently valid OMB control number.

The Lacey Act (18 U.S.C. 42) (“Act”) prohibits the possession or importation of any animal or plant deemed to be and prescribed by regulation to be injurious, to human beings, to the interests of agriculture, horticulture, forestry, or to wildlife or the wildlife resources of the United States. The Department of the Interior is charged with enforcement of this Act.

The Act and our regulations at 50 CFR 16 allow for the importation of animals classified as injurious if specific criteria are met. Specifically, this information collection allows the Service to approve the importation of live salmonids and their reproductive products into the United States.

On March 17, 2004, we published in the Federal Register (69 FR 12708) a notice announcing that we planned to submit this information collection to OMB for approval under the Paperwork Reduction Act. We solicited public comments on that notice for 60 days, ending May 17, 2004. By that date, we received one comment. The commenter expressed concern that the information collection does not specifically define “fish” as “wild fish” or “fisheries resources,” which are the responsibility of the U.S. Fish and Wildlife Service. The commenter went on to explain the responsibility of health protection of all forms of animal agriculture, including aquaculture, in the United States rests with the Animal and Plant Health Inspection Service of the U.S. Department of Agriculture.

As explained above, the authorizing legislation for this information collection is the Lacey Act, which deals with injurious animals, and this collection specifically allows the Service to approve the importation of live salmonids and their reproductive products into the United States regardless of their source, destination, or use. As such, we do not believe that, at this time, we need to further define the term “fish” on these forms.

The importation of salmonids requires that we collect information from those individuals wishing to import salmonids or their reproductive products with regard to the numbers, life stages, and species to be imported, as well as their source and destination. In addition, we require a health certificate submitted by a certified Title 50 inspector to ensure the animals being imported do not pose a health risk to the nation's commercial and natural aquatic resources. Regarding the qualifications of the Title 50 inspectors, we collect information that verifies the applicants' professional qualifications and the adequacy of facilities available to those individuals to complete the inspections according to methods provided in 50 CFR 16.

We have regulated the importation of live salmonids and their reproductive products for over 25 years. In order to effectively carry out these responsibilities and protect the aquatic resources of the United States, it is essential that we gather information on the animals being imported with regard to their source, destination, and health status. It is also imperative that we ensure the qualifications of those individuals providing the relevant fish health data upon which we base our decision to allow importation. This collection allows us to gather the information necessary to make sound decisions on allowing importation of live salmonids and their reproductive products into the United States. The forms are described below.

Form Title: Title 50 Certifying Official Form.

OMB Control Number: 1018-0078.

Form Number: FW 3-2273.

Frequency of Collection: Every 5 years as needed.

Description of Respondents: Aquatic animal health professionals seeking to be certified Title 50 inspectors.

Total Annual Responses: 16 (estimate based on previous collection activities). There are currently approximately 80 inspectors.

Total Annual Burden Hours: 16 hours. We estimate the reporting burden at 1 hour for each of the total 16 responses, or approximately 16 hours total.

Form Title: U.S. Title 50 Certification Form.

OMB Control Number: 1018-0078.

Form Number: FW 3-2274.

Frequency of Collection: On occasion, as needed by the submitting individual or entity.

Description of Respondents: Certified Title 50 inspectors that have performed health certifications on live salmonids or their reproductive products for importation into the United States.

Total Annual Responses: Approximately 50 (estimate based on previous collection activities).

Total Annual Burden Hours: 25 hours. We estimate the reporting burden at thirty minutes for each of the total 50 responses, or approximately 25 hours total.

Form Title: Title 50 Importation Request Form.

OMB Control Number: 1018-0078.

Form Number: FW 3-2275.

Frequency of Collection: On occasion, as needed by the submitting individual or entity.

Description of Respondents: Any entity wishing to import live salmonids or their reproductive products into the United States.

Total Annual Responses: 50 (estimate based on previous collection activities).

Total Annual Burden Hours: 12.5 hours. We estimate the reporting burden at 0.25 hours for each of the total 50 responses, or approximately 12.5 hours total.

We again invite comments on this proposed information collection on the following: (1) Whether the collection of information is necessary for the proper performance of the function of the agency, including whether the information will have practical utility; (2) the accuracy of our estimate of the burden of the collection of information; (3) ways to enhance the quality, utility, and clarity of the information to be collected; and (4) ways to minimize the burden of the collection on respondents.

Our practice is to make comments, including names and home addresses of respondents, available for public review during regular business hours. Individual respondents may request that we withhold their home addresses from the record, which we will honor to the extent allowable by law. There may also be limited circumstances in which we would withhold a respondent's identity from the rulemaking record, as allowable by law. If you wish us to withhold your name and/or address, you must state this clearly at the beginning of your comment. We will not consider anonymous comments. We generally make all submissions from organizations or businesses, and from individuals identifying themselves as representatives or officials of organizations or businesses, available for public inspection in their entirety.

Dated: July 7, 2004.
Anissa Craghead,
Information Collection Officer, Fish and Wildlife Service.

[FR Doc. 04-19114 Filed 8-19-04; 8:45 am]

BILLING CODE 4310-55-P